DEPARTMENT OF THE TREASURY

Open Meeting of the President's Council on Jobs and Competitiveness (PCJC)

AGENCY: Departmental Offices, Treasury.

ACTION: Notice of Open Meeting.

SUMMARY: The President's Council on Jobs and Competitiveness will meet on January 17, 2012, at the White House, 1600 Pennsylvania Avenue NW., Washington, DC, beginning at 2 p.m. Eastern Time. The meeting will be open to the public via live webcast at http://www.whitehouse.gov/live.

DATES: The meeting will be held on January 17, 2012 at 2 p.m. Eastern Time.

ADDRESSES: The PCJC will convene its meeting at the White House, 1600 Pennsylvania Avenue NW., Washington, DC. The public is invited to submit written statements to the PCJC by any of the following methods:

Electronic Statements

• Send written statements to the PCJC's electronic mailbox at PCJC@treasury.gov; or

Paper Statements

• Send paper statements in triplicate to John Oxtoby, Designated Federal Officer, President's Council on Jobs and Competitiveness, Office of the Under Secretary for Domestic Finance, Room 1325A, Department of the Treasury, 1500 Pennsylvania Avenue NW., Washington, DC 20220.

In general, all statements will be posted on the White House Web site (http://www.whitehouse.gov) without change, including any business or personal information provided such as names, addresses, email addresses, or telephone numbers. The Department of the Treasury will also make such statements available for public inspection and copying in the Department of the Treasury's Library, Room 1428, Main Treasury Building, 1500 Pennsylvania Avenue NW., Washington, DC 20220, on official business days between the hours of 10 a.m. and 5 p.m. Eastern Time. You can make an appointment to inspect statements by telephoning (202) 622-0990. All statements received, including attachments and other supporting materials, are part of the public record and subject to public disclosure. You should submit only information that you wish to make publicly available.

FOR FURTHER INFORMATION CONTACT: John Oxtoby, Designated Federal Officer, President's Council on Jobs and Competitiveness, Office of the Under Secretary for Domestic Finance, Department of the Treasury, Main Treasury Building, 1500 Pennsylvania Avenue NW., Washington, DC 20220, at (202) 622-2000.

SUPPLEMENTARY INFORMATION: In accordance with Section 10(a) of the Federal Advisory Committee Act, 5 U.S.C. App. II, 10(a), and the regulations thereunder, John Oxtoby, Designated Federal Officer of the PCJC, has ordered publication of this notice that the PCJC will convene its next meeting on January 17, 2012 at the White House, 1600 Pennsylvania Avenue NW., Washington, DC, beginning at 2 p.m. Eastern Time. The meeting will be broadcast on the internet via live webcast at http://www.whitehouse.gov/live. The purpose of this meeting is to discuss initiatives and policies to strengthen the economy, promote and accelerate job growth and bolster America's competitiveness around the world. The President will continue the discussion focused on identifying practical ways the government and business can work together to foster growth and create jobs. Due to the significant logistical difficulties of convening the members of the PCJC, the meeting has been scheduled with less than 15 days notice (see 41 CFR 102-3.150(b)).

Dated: December 28, 2011.
Rebecca Ewing,
Acting Executive Secretary, U.S. Department of the Treasury.

[FR Doc. 2012-131 Filed 1-6-12; 8:45 am]

BILLING CODE 4810-25-P